DEPARTMENT OF COMMERCE

National Oceanic and Atmospheric Administration

[I.D. 042202G]

Western Pacific Fishery Management Council; Public Meeting

AGENCY: National Marine Fisheries Service (NMFS), National Oceanic and Atmospheric Administration (NOAA), Commerce.

ACTION: Notice of public meetings.

SUMMARY: The 80th meeting of the Western Pacific Fishery Management Council's (Council) Scientific and Statistical Committee (SSC) will convene May 14 through May 16, 2002, in Lihue, HI.

DATES: The SSC meeting will be held from 9 a.m. to 5 p.m. on May 14, 2002, and from 8:30 a.m. to 5 p.m. on May 15-16, 2002.

ADDRESSES: The 80th SSC meeting will be held at the Kauai Marriott Resort and Beach Club, 3610 Rice Street, Kalapaki Beach, Lihue, HI; telephone: (808-245-5050).

Council address: Western Pacific Fishery Management Council, 1164 Bishop St., Suite 1400, Honolulu, HI 96813.

FOR FURTHER INFORMATION CONTACT: Kitty M. Simonds, Executive Director; telephone: 808-522-8220.

SUPPLEMENTARY INFORMATION: The SSC will discuss and may make recommendations to the Council on the agenda items below. The order in which agenda items will be addressed can change.

Tuesday, May 14, 2002, 9 a.m.

1. Introductions

2. Approval of Draft Agenda and Assignment of Rapporteurs

3. Approval of the Minutes of the 79th Meeting

4. Comprehensive Sustainable Fisheries Act Amendment

Maximum Sustainable Yield/overfishing control rules

5. Crustaceans Fisheries (Northwestern Hawaiian Islands (NWHI) lobsters)

A. Report on the Modeling Workshop

B. Plan Team report

C. Discussion and recommendations

6. Bottomfish Fisheries

A. Research on Hapuupuu

B. Annual Report Modules

C. NWHI Framework Adjustment

D. Plan Team Recommendations

E. Public comment

F. Discussion and recommendations

7. Hawaiian Monk Seals

A. Quarterly Report on Activities of the Marine Mammal Research Program (MMRP)

B. Monk Seal Recovery Team update

C. Marine Mammal Commission review of MMRP

D. Simulation model

E. Discussion and recommendations

Wednesday, May 15, 2002, 8:30 a.m.

1. Pelagic Fisheries

A. 1st quarter 2002 Hawaii and American Samoa longline reports

B. Hawaii recreational fishery data base

C. Economic Study of the Hawaii and American Samoa longline fisheries

D. American Samoa limited entry program

E. Emergency action - Hawaii longline fishery (new area closure and swordfish trip limit)

F. Sea turtle conservation and management

i. Section 10 permitted Honolulu Lab mitigation research

ii. New Biological Opinion

iii. Pacific sea turtle recovery plan/implementation teams

iv. Report from the International Leatherback Survival Conference

v. Turtle Excluder Device (TEDs) certification program

G. Hawaii recreational fishery log book pilot project

H. Pelagics Fishery Management Plan (FMP) Amendment 9, Shark management, redraft

I. Pelagic Fisheries Research Program

i. New Projects

ii. 15th Standing Committee on Tunas and Billfish (agendas, working groups)

J. International Meetings

i. South Pacific Tuna Treaty

ii. 2nd International Fishers Forum

K. Public comment

L. Discussion and recommendations

Thursday, May 16, 2002, 8:30 a.m.

1. Precious Corals Fisheries

A. Status

B. Plan Team Report

C. Discussion and recommendations

2. Ecosystem and Habitat

A. Meso-pelagic ecosystem studies

B. Coral reef assessment surveys of the NWHI and American Samoa

C. Refining Essential Fish Habitat designations

D. Status Reef fish stock assessment workshop

E. Ecosystem Planning workshop

F. Marine Protected Areas Policy Working Group report

G. Invasive Species

H. Public Comment

I. Discussion and recommendations

3. Status of Initiatives

A. Council/NMFS long term research planning for Western Pacific Region

B. NMFS Pacific Islands Region structure

C. Discussion and recommendations

4. Other Business

5. Summary of Recommendations to Council

6. Meeting Schedule for 2002

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council’s intent to take final action to address the emergency.

Special Accommodations

These meetings are physically accessible to people with disabilities. Requests for sign language interpretation or other auxiliary aids should be directed to Kitty M. Simonds, 808-522-8220 (voice) or 808-522-8226 (fax), at least 5 days prior to meeting date.

Dated: April 24, 2002.
Theophilus R. Brainerd,
Acting Director, Office of Sustainable Fisheries, National Marine Fisheries Service.

[FR Doc. 02-10484 Filed 4-26-02; 8:45 am]

BILLING CODE 3510-22-S